FEDERAL COMMUNICATIONS COMMISSION

Notice of Public Information Collection(s) Being Submitted to OMB for Review and Approval

January 12, 2007.

SUMMARY: The Federal Communications Commissions, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before February 23, 2007. If you anticipate that you will be submitting comments, but find it difficult to do so within the period of time allowed by this notice, you should advise the contact listed below as soon as possible.

ADDRESSES: You may submit your Paperwork Reduction Act (PRA) comments by e-mail or U.S. postal mail. To submit your comments by e-mail send them to PRA@fcc.gov. To submit your comments by U.S. mail, mark them to the attention of Cathy Williams, Federal Communications Commission, Room 1-C823, 445 12th Street, SW., Washington, DC 20554 and Allison E. Zaleski, Office of Management and Budget (OMB), Room 10236 NEOB, Washington, DC 20503, (202) 395-6466 or via the Internet at Allison_E._Zaleski@omb.eop.gov.

FOR FURTHER INFORMATION CONTACT: For additional information about the information collection(s) send an e-mail to PRA@fcc.gov or contact Cathy Williams at (202) 418-2918. If you would like to obtain a copy of the information collection, you may do so by visiting the FCC PRA Web page at: http://www.fcc.gov/omd/pra.

SUPPLMENTARY INFORMATION: OMB Control Number: 3060-0029.

Title: Application for TV Broadcast Station License; Application for Construction Permit for Reserved Channel Noncommercial Educational (NCE) Broadcast Station; Application for Authority to Construct or Make Changes in an FM Translator or FM Booster Station.

Form Number: FCC Forms 302-TV, 340 and 349.

Type of Review: Revision of a currently approved collection.

Respondents: Business or other for-profit entities; Not-for-profit institutions; State, local or tribal government.

Number of Respondents: 2,785.

Estimated Time per Response: 0.50-4 hours.

Frequency of Response: On occasion reporting requirement; Third party disclosure requirement.

Obligation to Respond: Required to obtain or retain benefits.

Total Annual Burden: 8,370 hours.

Total Annual Cost: $19,389,625.

Privacy Impact Assessment: No impact(s).

Nature and Extent of Confidentiality: There is no need for confidentiality.

Needs and Uses: On November 3, 2006, the Commission adopted the Report and Order (“R&O”), Revision of Procedures Governing Amendments to FM Table of Allotments and Changes of Community of License in the Radio Broadcast Services, MB Docket 05-210, FCC 06-163. In this R&O, the Commission extended to noncommercial educational FM licensees and permittees the same ability to request changes of community of license by first come-first served minor modification application as was being granted to other commercial full-service AM standard band and FM licensees and permittees. Previously, because a change in an NCE station's community of license was considered a major modification in the station's facilities, an NCE applicant had to await the opening of an announced Noncommercial Educational (NCE) new and major change application filing window. Filing on a first-come first-served basis will significantly reduce the risk of application mutual exclusivity. The application of this new procedure to NCE stations was not proposed in the Notice of Proposed Rule Making in this proceeding, but the Commission found it to be a logical outgrowth of a proposal in that proceeding based on comments received, and accordingly adopted the change in the R&O. Thus, the Commission proposes to revise FCC Form 340 to accommodate NCE applicants who seek to change their NCE station's community of license by minor modification application.

Specifically, the Commission revises the FCC Form 340 to reflect the requirement that NCE applicants employing this procedure must include an exhibit demonstrating that the proposed community of license change comports with the fair, efficient and equitable distribution of radio service policies under Section 307(b) of the Communications Act of 1934, as amended. NCE applicants proposing a change in community of license must provide Section 307(b) information demonstrating the merits of locating the station in the new community, as opposed to the current community of license. This form, FCC Form 340, is the only form being revised by the FCC's action in this information collection. FCC Forms 302-TV and 349 remain unchanged.

FCC Form 302-TV is used by licensees and permittees of TV broadcast stations to obtain a new or modified station license and/or to notify the Commission of certain changes in the licensed facilities of these stations. FCC 340 is used to apply for authority to construct a new noncommercial educational FM or TV station or to make changes in the existing facilities of such a station. The FCC 340 is to be used if the broadcast station will operate on a channel that is reserved exclusively for noncommercial educational use and on non-reserved channels if the applicant proposes to build and operate a NCE station.

FCC Form 349 is used to apply for authority to construct a new FM translator or FM booster broadcast station, or to make changes in the existing facilities of such stations. This form also includes the third party disclosure requirement of 47 CFR 73.3580 (3060-0031). Section 73.3580 requires local public notice in a newspaper of general circulation of all application filings for new or major change in facilities. This notice must be completed within 30 days of the tendering of the application. This notice must be published at least twice a week for two consecutive weeks in a three-week period. A copy of this notice must be placed in the public inspection file along with the application.

Federal Communications Commission.
Marlene H. Dortch,
Secretary.

[FR Doc. E7-723 Filed 1-23-07; 8:45 am]

BILLING CODE 6712-01-P